DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of a person who has been removed from the list of Specially Designated Nationals and Blocked Persons (SDN List). Their property and interests in property are no longer blocked pursuant to Executive Order 13818 of December 20, 2017, “Blocking the Property of Persons Involved in Serious Human Rights Abuse or Corruption” (“E.O. 13818”), and U.S. persons are no longer generally prohibited from engaging in transactions with them.

The U.S. Department of the Treasury's Office of Foreign Assets Control (OFAC) is publishing the names of one or more persons that have been placed on OFAC's List of Specially Designated Nationals and Blocked Persons (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2480; Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

OFAC previously determined on December 8, 2021 that the individuals listed below met one or more of the criteria under Executive Order 13818 of December 20, 2017, “Blocking the Property of Persons Involved in Serious Human Rights Abuse or Corruption,” (the “Order”). On December 20, 2021, OFAC removed from the SDN List the person listed below, whose property and interests in property were blocked pursuant to E.O. 13818. On December 20, 2021, the Director of OFAC, in consultation with the Secretary of State and the Attorney General, determined that circumstances no longer warrant the inclusion of the following person on the SDN List under this authority. This person is no longer subject to the blocking provisions of Section 1(a) of E.O. 13818.

Entity:

1. NAUTIKACENTAR D.O.O. (a.k.a. NAUTIKACENTAR DRUSTVO S OGRANICENOM ODGOVORNOSCU ZA DJELATNOST MARINA, TRGOVINU I USLUGE), Zdravka Kucica 43, Rijeka 51000, Croatia; Organization Established Date 01 Jan 2000; V.A.T. Number HR12533377925 (Croatia) [GLOMAG] (Linked To: VESELINOVIC, Zharko Jovan).

Authority: E.O. 13818, 82 FR 60839, 3 CFR, 2018 Comp., p. 399.

On December 20, 2021, OFAC published revised information for the following persons on OFAC's SDN List.

BILLING CODE 4810-AL-P

Dated: December 20, 2021.
Andrea Gacki,
Director, Office of Foreign Assets Control, U.S. Department of the Treasury.

[FR Doc. 2021-27857 Filed 12-22-21; 8:45 am]

BILLING CODE 4810-AL-C